FEDERAL COMMUNICATIONS COMMISSION

47 CFR Part 54

[CC Docket No. 96-45; DA 01-829]

Contributions to Federal Universal Service Support Mechanisms; Approval of FCC Form 499-Q (Telecommunications Reporting Worksheet) by the Office of Management and Budget

AGENCY: Federal Communications Commission.

ACTION: Notice of OMB approval of reporting form.

SUMMARY: This document announces that the FCC Form 499-Q (Telecommunications Reporting Worksheet) has been approved by the Office of Management and Budget. Carries must file the form to report their revenues from the prior quarter for purposes of contributing to the Federal universal service support mechanisms.

DATES: FCC Form 499-Q was approved on April 2, 2001.

FOR FURTHER INFORMATION CONTACT: Richard Smith, Attorney, Accounting Policy Division, Common Carrier Bureau, (202) 418-7400, TTY: (202) 418-0484.

SUPPLEMENTARY INFORMATION: The Common Carrier Bureau announces that FCC Form 499-Q (Telecommunications Reporting Worksheet) has been approved by the Office of Management and Budget (OMB). In accordance with the Contribution Order, 66 FR 16145, March 23, 2001, carriers must file the Form 499-Q to report their revenues from the prior quarter for purposes of contributing to the federal universal service support mechanisms.

Carriers will file the initial FCC Form 499-Q on May 11, 2001. Thereafter, carriers will file FCC Form 499-Q, reporting their revenues from the prior quarter, by the beginning of the second month of each quarter (i.e. February 1, May 1, August 1, and November 1). As stated in the Contribution Order, a notice of the OMB approval will be published in the Federal Register.

Copies of the FCC Form 499-Q and Instructions may be obtained from the Commission's Forms Web Page (www.fcc.gov/formpage.html). Copies may also be obtained from the National Exchange Carrier Association (NECA) at (973) 560-4400.

Dated: April 6, 2001
Katherine L. Schroder,
Division Chief, Accounting Policy Division.

[FR Doc. 01-9037 Filed 4-12-01; 8:45 am]

BILLING CODE 6712-01-U